DEPARTMENT OF TRANSPORTATION

Federal Aviation Administration

14 CFR Part 39

[Docket No. FAA-2007-28036; Directorate Identifier 2006-NM-278-AD; Amendment 39-15145; AD 2007-16-06]

RIN 2120-AA64

Airworthiness Directives; Airbus Model A330-200 and A330-300 Series Airplanes; and Model A340-200, A340-300, A340-500, and A340-600 Series Airplanes

AGENCY: Federal Aviation Administration (FAA), Department of Transportation (DOT).

ACTION: Final rule.

SUMMARY: We are adopting a new airworthiness directive (AD) for the products listed above. This AD results from mandatory continuing airworthiness information (MCAI) issued by an airworthiness authority of another country to identify and correct an unsafe condition on an aviation product. The MCAI describes the unsafe condition as failure of an evacuation slide raft to inflate, which could delay the evacuation of passengers in case of an emergency. We are issuing this AD to require actions to correct the unsafe condition on these products.

DATES: This AD becomes effective September 13, 2007.

The Director of the Federal Register approved the incorporation by reference of certain publications listed in this AD as of September 13, 2007.

ADDRESSES: You may examine the AD docket on the Internet at http://dms.dot.gov or in person at the U.S. Department of Transportation, Docket Operations, M-30, West Building Ground Floor, Room W12-140, 1200 New Jersey Avenue, SE., Washington, DC.

FOR FURTHER INFORMATION CONTACT: Tim Backman, Aerospace Engineer, ANM-116, International Branch, Transport Airplane Directorate, FAA, 1601 Lind Avenue SW., Renton, Washington 98057-3356; telephone (425) 227-2797; fax (425) 227-1149.

SUPPLEMENTARY INFORMATION:

Discussion

The FAA is implementing a new process for streamlining the issuance of ADs related to MCAI. This streamlined process will allow us to adopt MCAI safety requirements in a more efficient manner and will reduce safety risks to the public. This process continues to allow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

We issued a notice of proposed rulemaking (NPRM) to amend 14 CFR part 39 to include an AD that would apply to the specified products. That NPRM was published in the Federal Register on April 30, 2007 (72 FR 21164). That NPRM proposed to require a set of modifications of the slide raft assembly of each door and the slide raft, as applicable, which consists of: continuous “speed lacing” cord and new soft covers with rounded grommets; and a new shorter firing cable, a new anchor block for the slide raft packboard and a new folding procedure. The MCAI states that several operators have reported non-automatic deployment of slide rafts during ground operational testing. In all cases, the slide raft released correctly from the door but did not inflate automatically. Pulling the manual backup handle correctly inflated the slide raft. Investigation conducted by the slide raft manufacturer showed that non-automatic deployments have two potential root causes: non-opening of the lacing; and stiffness and stiction (static friction) on the painted inflatable material. This situation, if not corrected, could delay the evacuation of passengers in case of an emergency. A new design solution has been developed to ensure the automatic slide raft deployment, which consists of: continuous “speed lacing” cord and new soft covers with rounded grommets (this modification ensures that the lacing opens); and a new shorter firing cable, a new anchor block for the slide raft packboard and a new folding procedure (this modification ensures automatic deployment regardless of the inflatable paint condition). Both modifications together ensure the automatic deployment function. The MCAI requires accomplishment of the set of modifications.

Comments

We gave the public the opportunity to participate in developing this AD. We received no comments on the NPRM or on the determination of the cost to the public.

Clarification of Applicability

We have revised the applicability of this AD to match the MCAI and the current FAA type certification data sheet for the affected airplanes. The revision clarifies the applicability and does not add to or change the affected airplanes.

Conclusion

We reviewed the available data and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have required different actions in this AD from those in the MCAI in order to follow our FAA policies. Any such differences are described in a separate paragraph of the AD. These requirements, if any, take precedence over the actions copied from the MCAI.

Costs of Compliance

Based on the service information, we estimate that this AD affects about 28 products of U.S. registry. We also estimate that it takes about 66 work-hours per product to comply with this AD. The average labor rate is $80 per work-hour. Required parts cost about $3,860 per product. Based on these figures, we estimate the cost of the AD on U.S. operators to be $255,920, or $9,140 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-16-06 Airbus: Amendment 39-15145. Docket No. FAA-2007-28036; Directorate Identifier 2006-NM-278-AD.

Effective Date

(a) This airworthiness directive (AD) becomes effective September 13, 2007.

Affected ADs

(b) The requirements of this AD relate to those specified in AD 2006-04-03, amendment 39-14484.

Applicability

(c) This AD applies to Airbus Model A330-200 and A330-300 series airplanes; and Model A340-200, A340-300, A340-500, and A340-600 series airplanes, certificated in any category; all certified models, all serial numbers; except those with the European Aviation Safety Agency (EASA) specified modifications installed in production, or the equivalent service bulletins installed in service (as specified in Tables 1 and 2 of this AD), provided no slide has been replaced since either airplane delivery or service bulletin installation, as applicable.

Table 1.—Exceptions to Applicability
Airplane model | Configuration | Airbus modifications installed in production
A330, A340-200, -300 | With Modification 40161 (optional Type A door 3) | 50806, 50807, 55071, and 55072.
A330, A340-200, -300 | Without Modification 40161 (Type 1 door 3) | 50806 and 55071.
A340-500 | All | Either 50806, 50807, and 55071, or 50806 and 55071.
A340-600 | All | 50806, 50808, 55071, and 55073.

Table 2.—Exceptions to Applicability
Airplane model | Airbus Service Bulletins installed in service
A330 | A330-25-3173, Revision 01, dated August 2, 2006; and A330-25-3301, dated March 24, 2006.
A340-200, -300 | A340-25-4191, Revision 01, dated August 2, 2006; and A340-25-4273, dated March 24, 2006.
A340-500, -600 | A340-25-5004, Revision 01, dated August 2, 2006; and A340-25-5110, dated March 24, 2006.

Reason

(d) The mandatory continuing airworthiness information (MCAI) states that several operators have reported non-automatic deployment of slide rafts during ground operational testing. In all cases, the slide raft released correctly from the door but did not inflate automatically. Pulling the manual backup handle correctly inflated the slide raft. Investigation conducted by the slide raft manufacturer showed that non-automatic deployments have two potential root causes: Non-opening of the lacing; and stiffness and stiction (static friction) on the painted inflatable material. This situation, if not corrected, could delay the evacuation of passengers in case of an emergency. A new design solution has been developed to ensure the automatic slide raft deployment, which consists of: Continuous “speed lacing” cord and new soft covers with rounded grommets (this modification ensures that the lacing opens); and a new shorter firing cable, a new anchor block for the slide raft packboard and a new folding procedure (this modification ensures automatic deployment regardless of the inflatable paint condition). Both modifications together ensure the automatic deployment function. The MCAI requires accomplishment of the set of modifications.

Actions and Compliance

(e) Unless already done, do the following actions.

(1) For slide raft part numbers (P/Ns) 7A1508-003/-005/-007/-023/-025/-027/ -029/-115; P/Ns 7A1539-003/-004/-005/ -006/-007/-008/-023/-024/-025/-026/-027/ -028/-029/-030/-115/ -116; P/Ns 7A1510 -003/-004/-005/-006/-007/-008/-023/-024/ -025/-026/-027/-028/-029/-030/-115/-116; and P/Ns 4A3934-1/-2/-001/-002: No later than 36 months after the effective date of this AD, modify the slide raft in accordance with the instructions given in Airbus Service Bulletin A330-25-3173, A340-25-4191, or A340-25-5004, all Revision 01, all dated August 2, 2006; as applicable; and modify the slide raft assembly of each door in accordance with the instructions given in Airbus Service Bulletin A330-25-3301, A340-25-4273, or A340-25-5110, all dated March 24, 2006; as applicable.

(2) For slide raft P/Ns 7A1508-033/-035/-037/-119/-121; P/Ns 7A1539-033/-034/ -035/-036/-037/-038/-119/-120/-121/-122; P/Ns 7A1510-033/-034/-035/-036/-037/ -038/ -119/-120/-121/-122; and P/Ns 4A3934-5/-6/-7/-8: No later than 36 months after the effective date of this AD, modify the slide raft assembly of each door in accordance with the instructions given in Airbus Service Bulletin A330-25-3301, A340-25-4273, or A340-25-5110, all dated March 24, 2006; as applicable.

FAA AD Differences

Note: This AD differs from the MCAI and/ or service information as follows: No differences.

Other FAA AD Provisions

(f) The following provisions also apply to this AD:

(1) Alternative Methods of Compliance (AMOCs): The Manager, International Branch, ANM-116, Transport Airplane Directorate, FAA, has the authority to approve AMOCs for this AD, if requested using the procedures found in 14 CFR 39.19. Send information to ATTN: Tim Backman, Aerospace Engineer, 1601 Lind Avenue SW., Renton, Washington 98057-3356; telephone (425) 227-2797; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(g) Refer to MCAI EASA Airworthiness Directive 2006-0354, dated November 28, 2006; and the Airbus Service Bulletins specified in Table 3 of this AD for related information.

Table 3.—Airbus Service Bulletins
Service Bulletin | Revision level | Date
A330-25-3173 | 01 | August 2, 2006.
A330-25-3301 | Original | March 24, 2006.
A340-25-4191 | 01 | August 2, 2006.
A340-25-4273 | Original | March 24, 2006.
A340-25-5004 | 01 | August 2, 2006.
A340-25-5110 | Original | March 24, 2006.

Material Incorporated by Reference

(h) You must use the service information specified in Table 4 of this AD to do the actions required by this AD, unless the AD specifies otherwise.

(1) The Director of the Federal Register approved the incorporation by reference of this service information under 5 U.S.C. 552(a) and 1 CFR part 51.

(2) For service information identified in this AD, contact Airbus, 1 Rond Point, Maurice Bellonte, 31707 Blagnac Cedex, France.

(3) You may review copies at the FAA, Transport Airplane Directorate, 1601 Lind Avenue SW., Renton, Washington; or at the National Archives and Records Administration (NARA). For information on the availability of this material at NARA, call 202-741-6030, or go to: http://www.archives.gov/federal-register/cfr/ibr-locations.html.

Table 4.—Material Incorporated by Reference
Service Bulletin | Revision | Date
A330-25-3173 | 01 | August 2, 2006.
A330-25-3225 | 01 | September 30, 2004.
A330-25-3301 | Original | March 24, 2006.
A340-25-4191 | 01 | August 2, 2006.
A340-25-4228 | 01 | September 30, 2004.
A340-25-4273 | Original | March 24, 2006.
A340-25-5004 | 01 | August 2, 2006.
A340-25-5054 | Original | August 2, 2004.
A340-25-5110 | Original | March 24, 2006.

Issued in Renton, Washington, on July 30, 2007.
Ali Bahrami,
Manager, Transport Airplane Directorate, Aircraft Certification Service.

[FR Doc. E7-15413 Filed 8-8-07; 8:45 am]

BILLING CODE 4910-13-P